DEPARTMENT OF EDUCATION

Equity and Excellence Commission

AGENCY: U.S. Department of Education, Office for Civil Rights.

ACTION: Notice of Establishment of the Equity and Excellence Commission.

SUMMARY: The U.S. Secretary of Education (Secretary) announces the establishment of the Equity and Excellence Commission (Equity Commission or Commission). The Federal Advisory Committee Act (FACA) (Pub. L. 92-463, as amended; 5 U.S.C.A., Appendix 2) shall govern the Equity Commission.

Purpose: The Secretary is establishing the Commission in order to collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

In order to achieve this purpose, the Commission will collect and analyze information related to the issues described above, including information and comment from members of the public. To this end, the Commission will conduct no fewer than four (4) town hall meetings in different parts of the country, in addition to convening at such other times as the Commission deems appropriate, to gather information and will utilize other means of outreach to encourage and facilitate a public discussion of the issues. Approximately fifteen (15) months after the appointment of the members, the Commission will submit a report to the Secretary outlining its findings and any recommendations. The Commission's report will address, at a minimum, the following:

• Options for how Federal, State, and local governments could establish funding systems to ensure that all students receive equal educational opportunities.

• The cost of education in different settings, with consideration of students' educational needs, school needs, and variations in geography.

The Secretary will share a copy of the report with Congress through the United States Senate Committees on Appropriations and on Health, Education, Labor, and Pensions and the United States House of Representatives Committees on Appropriations and on Education and Labor.

FOR FURTHER INFORMATION CONTACT: U.S. Department of Education, White House Liaison Office, Washington, DC 20202, telephone: (202) 401-3677.

The official version of this document is the document published in the Federal Register. Free Internet access to the official edition of the Federal Register and the Code of Federal Regulations is available on GPO Access at: http://www.gpoaccess.gov/nara/index.html.

Dated: August 5, 2010.
Arne Duncan,
Secretary of Education.

[FR Doc. 2010-19800 Filed 8-10-10; 8:45 am]

BILLING CODE 4000-01-P